ENVIRONMENTAL PROTECTION AGENCY

[EPA-HQ-OW-2008-0055; FRL-9233-9]

Notice Regarding National Pollutant Discharge Elimination System (NPDES); General Permit for Discharges Incidental to the Normal Operation of a Vessel

AGENCY: Environmental Protection Agency (EPA).

ACTION: Notice of availability.

SUMMARY: EPA announced the final NPDES general permit for discharges incidental to the normal operation of vessels, also referred to as the Vessel General Permit (VGP), in the Federal Register on December 29, 2008 (73 FR 79473). The permit was finalized on December 18, 2008 and became effective on February 6, 2009. EPA noticed final issuance of the VGP for the states of Hawaii and Alaska, after receipt of a certification pursuant to section 401 of the Clean Water Act (CWA) from Hawaii and a final response on the national consistency determination required by section 307(c)(1) of the Coastal Zone Management Act (CZMA) from Alaska, which was signed on February 2, 2009, with an effective date of February 6, 2009. On March 11, 2009, a notice of availability in the Federal Register provided notice of EPA's deletion of State section 401 certification conditions from the VGP for the States of New Jersey, Illinois, and California (74 FR 10573). Today's notice of availability provides notice of EPA's deletion of specific State section 401 certification conditions from Part 6 of the VGP for the States of Pennsylvania and Iowa.

FOR FURTHER INFORMATION CONTACT: For further information on the final vessel NPDES general permit, contact Robin Danesi at EPA Headquarters, Office of Water, Office of Wastewater Management, Mail Code 4203M, 1200 Pennsylvania Ave., NW., Washington, DC 20460; or at tel. 202-564-1846; or Juhi Saxena at EPA Headquarters, Office of Water, Office of Wastewater Management, Mail Code 4203M, 1200 Pennsylvania Ave., NW., Washington, DC 20460; or at tel. 202-564-0719; or e-mail: CommercialVesselPermit@epa.gov.

SUPPLEMENTARY INFORMATION:

A. General Information

Pursuant to Clean Water Act section 401(a) and EPA's implementing regulations, EPA may not issue a NPDES permit (including the VGP) until the appropriate State certifications have been granted or waived. 40 CFR 124.53(a). Through the certification process, States were given the opportunity, before the VGP was issued, to add conditions to the permit they believe are necessary to ensure that the permit complies with the Clean Water Act and other appropriate requirements of State law, including State water quality standards.

Pennsylvania Department of Environmental Protection issued its section 401 certification for the VGP on December 12, 2008, and modified its certification on October 1, 2010. This modification deleted certification conditions 1, 2, and 3. Iowa Department of Natural Resources issued its section 401 certification for the VGP on August 8, 2008, and modified its certification on July 8, 2009. This modification deleted certification conditions 3 and 11. Pursuant to EPA's implementing regulations at 40 CFR 124.55(b), EPA may, at the request of a permittee, modify the VGP based on a modified certification received after final agency action on the permit “only to the extent necessary to delete any conditions based on a condition in a certification invalidated by a court of competent jurisdiction or by an appropriate State board or agency.” 40 CFR 124.55(b). In accordance with this provision, EPA has removed these deleted certification conditions from the VGP.¹ EPA's letters notifying the requesting permittees that their requests to delete the permit conditions were granted, and a copy of the VGP reflecting those deletions, can be found in the docket for the VGP (Docket ID No. EPA-HQ-OW-2008-0055).²

¹ In order for EPA to remove these deleted conditions from the VGP, the regulations at 40 CFR 124.55(b) also require that EPA receive a request from a permittee asking that the deleted State certification conditions be removed from the permit. EPA received such requests to remove deleted conditions from The Vane Brothers Company in Pennsylvania on November 24, 2009 and from Alter Barge Line, Inc. in Iowa on December 31, 2009.

² In addition, the permit may be found at http://www.epa.gov/npdes/vessels.

B. How can I get copies of these documents and other related information?

1. Docket. EPA has established an official public docket for this action under Docket ID No. EPA-HQ-OW-2008-0055. The official public docket is the collection of materials, including the administrative record, for the final permit, required by 40 CFR 124.18. It is available for public viewing at the Water Docket in the EPA Docket Center, (EPA/DC) EPA West, Room 3334, 1301 Constitution Ave., NW., Washington, DC 20460. Although all documents in the docket are listed in an index, some information is not publicly available, i.e., CBI or other information whose disclosure is restricted by statute. Publicly available docket materials are available electronically through http://www.regulations.gov and in hard copy at the EPA Docket Center Public Reading Room, open from 8:30 a.m. to 4:30 p.m., Monday through Friday, excluding legal holidays. The telephone number for the Public Reading Room is (202) 566-1744 and the telephone number for the Water Docket is (202) 566-2426.

2. Electronic Access. You may access this Federal Register document electronically through the EPA Internet under the “Federal Register” listings at http://www.epa.gov/fedrgstr/. An electronic version of the public docket is available through the Federal Docket Management System (FDMS) found at http://www.regulations.gov. You may use the FDMS to view public comments, access the index listing of the contents of the official public docket, and to access those documents in the public docket that are available electronically. Once at the Web site, enter the appropriate Docket ID No. in the “Search” box to view the docket.

Certain types of information will not be placed in the EPA dockets. Information claimed as CBI and other information whose disclosure is restricted by statute, which is not included in the official public docket, will not be available for public viewing in EPA's electronic public docket. EPA policy is that copyrighted material will not be placed in EPA's electronic public docket but will be available only in printed, paper form in the official public docket. Although not all docket materials may be available electronically, you may still access any of the publicly available docket materials through the docket facility identified in Section B.1.

Authority: Clean Water Act, 33 U.S.C. 1251 et seq.

Dated: November 17, 2010.
Jon M. Capacasa,
Director, Water Protection Division, EPA Region 3.
Dated: November 17, 2010.
Karen Flournoy,
Acting Director, Water, Wetlands, and Pesticides Division, EPA Region 7.

[FR Doc. 2010-31088 Filed 12-9-10; 8:45 am]

BILLING CODE 6560-50-P